DEPARTMENT OF JUSTICE

Notice of Lodging of Proposed Consent Decree Under the Clean Air Act

On December 3, 2015, the Department of Justice lodged a proposed consent decree with the United States District Court for the District of Idaho in the lawsuit entitled United States of America, et al. v. J.R. Simplot Company, Civil Action No. 1:15-cv-00562-CWD. The consent decree would resolve the claims of the United States, the State of Idaho, and the San Joaquin Valley Air Pollution Control District (SJVAPCD) against J.R. Simplot Company (Simplot) for injunctive relief and civil penalties for alleged violations of the New Source Review Prevention of Significant Deterioration (NSR/PSD) and Title V provisions of the Clean Air Act, at Simplot's five sulfuric acid manufacturing plants located in or near Lathrop, California, Pocatello, Idaho, and Rock Springs, Wyoming. The consent decree would require Simplot to comply with specified numerical emission limitations, including requirements applicable at all times at all five plants to comply with year-round emission limitations for sulfur dioxide (SO2) and with good air pollution control practices. The consent decree also includes numerical emission limitations that apply to emissions of sulfuric acid mist and fine particulate matter (PM2.5) at one of the Pocatello, Idaho plants at which the complaint alleged violations with respect to these pollutants. The consent decree would require Simplot to pay a civil penalty of $899,000, and to contribute $200,000 to a program operated by the SJVAPCD that incentivizes the replacement of old wood or pellet-burning devices with new, cleaner hearth options to reduce emissions of PM2.5, volatile organic compounds, carbon monoxide, and hazardous air pollutants. The consent decree would resolve Simplot's liability for past violations of NSR/PSD alleged in the complaint, as well any related liability under Title V and New Source Performance Standards requirements, at Simplot's five sulfuric acid plants.

The publication of this notice opens a period for public comment on the consent decree. Comments should be addressed to the Assistant Attorney General, Environment and Natural Resources Division, and should refer to United States of America, et al. v. J.R. Simplot Company, D.J. Ref. No. 90-7-1-08388/14. All comments must be submitted no later than thirty (30) days after the publication date of this notice. Comments may be submitted either by email or by mail:

To submit comments: | Send them to:
By e-mail | pubcomment-ees.enrd@usdoj.gov.
By mail | Assistant Attorney General, U.S. DOJ—ENRD, P.O. Box 7611, Washington, DC 20044-7611.

During the public comment period, the consent decree may be examined and downloaded at this Justice Department Web site: http://www.justice.gov/enrd/consent-decrees. We will provide a paper copy of the consent decree upon written request and payment of reproduction costs. Please mail your request and payment to: Consent Decree Library, U.S. DOJ—ENRD, P.O. Box 7611, Washington, DC 20044-7611.

Please enclose a check or money order for $19.75 (25 cents per page reproduction cost) payable to the United States Treasury.

Maureen Katz,
Assistant Section Chief, Environmental Enforcement Section, Environment and Natural Resources Division.

[FR Doc. 2015-30955 Filed 12-8-15; 8:45 am]

BILLING CODE 4410-15-P